FEDERAL COMMUNICATIONS COMMISSION

47 CFR Parts 51 and 54

[WC Docket Nos. 10-90, 07-135, 05-337, 03-109; GN Docket No. 09-51; CC Docket Nos. 01-92, 96-45; WT Docket No. 10-208; FCC 11-161]

Connect America Fund; a National Broadband Plan for Our Future; Establishing Just and Reasonable Rates for Local Exchange Carriers; High-Cost Universal Service Support

AGENCY: Federal Communications Commission.

ACTION: Final rule; announcement of effective date.

SUMMARY: In this document, the Federal Communications Commission (Commission) announces that the Office of Management and Budget (OMB) has approved, for a period of 3 years, revisions to an information collection associated with the Commission's Connect America Fund, Report and Order (Order). The Commission submitted revisions to this information collection under control number 3060-0400 to OMB for review and approval, as required by the Paperwork Reduction Act (PRA) of 1995 (44 U.S.C. 3501-3520), 77 FR 20629, on April 5, 2012. OMB approved the revisions on May 17, 2012.

DATES: The rules amending 47 CFR 51.907(b)(1), (c)(1), and (d) through (h); 51.909(b)(1), and (c) through (k); 51.911(b) and (c); 51.915(e)(5) and (f)(7); 51.917(e)(6) and (f)(3); and 54.304 published November 29, 2011 (76 FR 73830) are effective June 14, 2012.

FOR FURTHER INFORMATION CONTACT: Belinda Nixon, Wireline Competition Bureau, (202) 418-1520 or TTY: (202) 418-0484.

SUPPLEMENTARY INFORMATION: This document announces that, on May 17, 2012, OMB approved, for a period of 3 years, information collection requirements contained in the Commission's Order, FCC 11-161, published at 76 FR 73830, November 29, 2011. The OMB Control Number is 3060-0400. The Commission publishes this notice as an announcement of the effective date of rules that required OMB approval. To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received OMB approval on May 17, 2012, for the information collection requirements contained in the Commission's rules at §§ 51.907(b)(1), (c)(1), and (d) through (h); 51.909(b)(1), and (c) through (k); 51.911(b) and (c); 51.915(e)(5) and (f)(7); 51.917(e)(6) and (f)(3); and 54.304.

Under 5 CFR part 1320, an agency may not conduct or sponsor a collection of information unless it displays a current, valid OMB Control Number.

No person shall be subject to any penalty for failing to comply with a collection of information subject to the Paperwork Reduction Act that does not display a current, valid OMB Control Number. The OMB Control Number is 3060-0400.

The foregoing notice is required by the Paperwork Reduction Act of 1995, Public Law 104-13, October 1, 1995, and 44 U.S.C. 3507.

The total annual reporting burdens and costs for the respondents are as follows:

Estimated Annual Burden: 8,554 responses; .5 hours to 53 hours; 121,656 hours.

Obligation to Respond: Required to obtain or retain benefits. Statutory authority for this information collection is contained in 47 U.S.C. 201, 202, 203, and 251(b)(5) of the Communications Act of 1934, as amended.

Needs and Uses: On November 18, 2011, the Commission adopted the Order, FCC 11-161, published at 76 FR 73830, November 29, 2011, that requires or permits incumbent and competitive local exchange carriers, as part of transitioning regulation of interstate and intrastate switched access rates and reciprocal compensation rates to bill-and-keep under section 251(b)(5), to file tariffs with state commissions and the Commission. This transition affects different switched access rates at specified timeframes and establishes an Access Recovery Charge by which carriers will be able to assess end users a monthly charge to recover some or all of the revenues they are permitted to recover resulting from reductions in intercarrier compensation rates. The intrastate tariff filings may, depending on state requirements, require supporting materials to be filed that may also largely be satisfied by submitting the new information collection referenced above.

Federal Communications Commission.
Marlene H. Dortch,
Secretary.

[FR Doc. 2012-14493 Filed 6-13-12; 8:45 am]

BILLING CODE 6712-01-P